DEPARTMENT OF COMMERCE

National Oceanic and Atmospheric Administration

[Docket No.: 231120-0274]

RIN 0648-BJ52

Endangered and Threatened Species; Critical Habitat for the Threatened Indo-Pacific Corals, Public Hearings

AGENCY: National Marine Fisheries Service (NMFS), National Oceanic and Atmospheric Administration (NOAA), Commerce.

ACTION: Notice of public hearings.

SUMMARY: We, NMFS, will hold seven public hearings related to our proposed rule to designate critical habitat for five threatened corals in U.S. waters in the Indo-Pacific (Acropora globiceps, Acropora retusa, Acropora speciosa, Euphyllia paradivisa, and Isopora crateriformis) under the Endangered Species Act (ESA).

DATES: Please see Public Hearings in SUPPLEMENTARY INFORMATION section for date information. Comments on the proposed rule (88 FR 83644, November 30, 2023) must be received by February 28, 2024. Comments received after this date may not be accepted.

ADDRESSES: The addresses for the venues of the in-person hearings and instructions for joining the virtual hearing are provided below.

• Guam Public Hearing: Lotte Hotel Guam, 185 Gun Beach Road, Tamuning, 96913 Guam.

• Saipan Public Hearing: Crowne Plaza Resort, Coral Tree Ave., Garapan, Saipan, CNMI 96950.

• Tinian Public Hearing: Tinian Elementary School, 8th Avenue, San Jose, Tinian, CNMI 96952.

• Rota Public Hearing: Northern Marianas College Rota Campus, Song Song Village, Rota, CNMI 96951.

• Tutuila Public Hearing #1: Tradewinds Hotel, Tafuna, Western District, American Samoa 96799.

• Tutuila Public Hearing #2: Rex H. Lee Auditorium, Utulei, Eastern District, American Samoa 96799.

• Virtual Hearing: This hearing will be conducted as a Webex meeting. You may join the Webex meeting using a web browser, the Webex desktop app (app installation required), a mobile app on a phone (app installation required), or audio-only using just a phone call, as specified below.

○ To join the hearing, click on the link https://noaanmfs-meets.webex.com/noaanmfs-meets/j.php?MTID=mce25d9e1660a3b2fcd5133fb38aaac55.

○ Webinar number (access code): 2763 694 3109 Webinar password: kPRDGpXS246 (57734797 from phones and video systems).

○ Join from a mobile device (attendees only) +1-415-527-5035, 27636943109# 57734797#.

You may submit comments verbally or in writing at the public hearings, or in writing by any of the following methods:

• Electronic Submissions: Submit all electronic public comments via the Federal eRulemaking Portal. Go to https://www.regulations.gov/commenton/NOAA-NMFS-2016-0131-0070, complete the required fields, and enter or attach your comments.

• Mail: Lance Smith, Protected Resources Division, NMFS, Pacific Islands Regional Office, NOAA Inouye Regional Center, 1845 Wasp Blvd., Bldg. 176, Honolulu, HI 96818.

Instructions: You must submit comments by one of the previously described methods to ensure that we receive, document, and consider them. Comments sent by any other method, to any other address or individual, or received after the end of the comment period, may not be considered. All comments received are a part of the public record and will generally be posted to https://www.regulations.gov without change. All Personal Identifying Information (for example, name, address, etc.) voluntarily submitted by the commenter may be publicly accessible. Do not submit confidential business information or otherwise sensitive or protected information.

NMFS will accept anonymous comments (enter “N/A” in the required fields if you wish to remain anonymous).

FOR FURTHER INFORMATION CONTACT: Lance Smith, NMFS, Pacific Islands Regional Office, at lance.smith@noaa.gov or 808-725-5131.

SUPPLEMENTARY INFORMATION:

Background

On November 30, 2023, NMFS proposed to designate critical habitat for five Indo-Pacific corals listed as threatened under the ESA within U.S. waters in Guam, CNMI, American Samoa, the Pacific Remote Island Area (PRIA) and Papahānaumokuākea Marine National Monument (MNM) in Hawai'i (88 FR 83644). The five species are Acropora globiceps, A. retusa, A. speciosa, Euphyllia paradivisa, and Isopora crateriformis. Proposed coral critical habitat consists of substrate and water column habitat characteristics essential for the reproduction, recruitment, growth, and maturation of the listed corals.

Proposed critical habitat consists of 16 island units. There are four units in American Samoa (Tutuila, Ofu-Olosega, Tā‘u, Rose Atoll), eight in CNMI (Rota, Aguijan, Tinian, Saipan, Alamagan, Pagan, Maug Islands, Uracas), two in PRIA (Palmyra and Johnston Atolls), one in Guam, and one in Papahānaumokuākea MNM (Lalo, also known as French Frigate Shoals). Between one and five listed corals occur within each unit. The following areas were deemed ineligible for proposed critical habitat because they are within areas covered by final Department of Defense Integrated Natural Resources Management Plans that are likely to benefit listed corals: parts of Guam, parts of Tinian, all of Farallon de Medinilla, and all of Wake Atoll (88 FR 83644, November 30, 2023).

Critical habitat protections apply only to Federal actions under section 7 of the ESA; activities that are not funded, authorized, or carried out by a Federal agency are not subject to these protections. The proposed rule and other materials prepared in support of this action, including maps showing the proposed critical habitat, are available at: https://www.fisheries.noaa.gov/action/proposed-rule-designate-critical-habitat-threatened-indo-pacific-corals. We are accepting public comments on the proposed rule through a 90-day public comment period, which ends on February 28, 2024 (see ADDRESSES for instructions on how to submit a public comment).

Public Hearings

Public hearings on the proposed rule to designate critical habitat for the five threatened Indo-Pacific corals will be held on the following dates in the evening hours of the affected jurisdictions (Guam, the Commonwealth of the Northern Mariana Islands (CNMI), American Samoa, Hawai‘i). Times are given in Chamorro Standard Time (ChST), Samoa Standard Time (SST), and Hawai‘i Standard Time (HST). For the six in-person hearings, doors will open at 5:30 p.m. local time, an information meeting by NOAA Fisheries staff will begin at 6 p.m. local time, and the public hearing will begin at 7 p.m. local time, as specified below. For the virtual hearing, an information meeting by NOAA Fisheries staff will begin at 6 p.m. HST, and the public hearing will begin at 7 p.m. HST. Addresses for the venues of the in-person hearings and instructions for joining the virtual hearing are provided under ADDRESSES.

• Guam: A public hearing is scheduled for Tuesday, January 16, 2024, at the Lotte Hotel Guam. Doors will open at 5:30 p.m. ChST, the information meeting will begin at 6 p.m. ChST, and the public hearing will begin at 7 p.m. ChST.

• CNMI, Saipan: A public hearing is scheduled for Thursday, January 18, 2024, at the Crowne Plaza Resort. Doors will open at 5:30 p.m. ChST, the information meeting will begin at 6 p.m. ChST, and the public hearing will begin at 7 p.m. ChST.

• CNMI, Tinian: A public hearing is scheduled for Tuesday, January 23, 2024, at the Tinian Elementary School. Doors will open at 5:30 p.m. ChST, the information meeting will begin at 6 p.m. ChST, and the public hearing will begin at 7 p.m. ChST.

• CNMI, Rota: A public hearing is scheduled for Thursday, January 25, 2024, at the Northern Marianas College. Doors will open at 5:30 p.m. ChST, the information meeting will begin at 6 p.m. ChST, and the public hearing will begin at 7 p.m. ChST.

• American Samoa, Tutuila #1: A public hearing is scheduled for Thursday, January 18, 2024, at the Tradewinds Hotel. Doors will open at 5:30 p.m. SST, the information meeting will begin at 6 p.m. SST, and the public hearing will begin at 7 p.m. SST.

• American Samoa, Tutuila #2: A public hearing is scheduled for Tuesday, January 23, 2024, at the Rex H. Lee Auditorium. Doors will open at 5:30 p.m. SST, the information meeting will begin at 6 p.m. SST, and the public hearing will begin at 7 p.m. SST.

• A virtual hearing is scheduled for Wednesday, February 7, 2024. The information meeting will begin at 6 p.m. HST, and the public hearing will begin at 7 p.m. HST.

Six of the public hearings will be conducted in-person and the final hearing will be conducted online as a Webex meeting, as specified in ADDRESSES above. The hearings will begin with a brief presentation by NMFS that gives an overview of critical habitat under the ESA and a summary of proposed coral critical habitat in Guam, CNMI, American Samoa, PRIA, and Papahānaumokuākea MNM. After the presentation but before public comments, there will be a question and answer session during which members of the public may ask NMFS staff clarifying questions about the proposed coral critical habitat.

Following the question and answer session, members of the public will have the opportunity to provide oral comments on the record regarding the proposed coral critical habitat. Members of the public will also have the opportunity to submit written comments at the hearings. Written comments may also be submitted at any time during the relevant public comment period as described above (see DATES and ADDRESSES). All oral comments will be recorded, transcribed, and added to the public comment record for this proposed rule.

Authority: 16 U.S.C. 1531 et seq.

Dated: December 19, 2023.
Angela Somma,
Chief, Endangered Species Conservation Division, Office of Protected Resources, National Marine Fisheries Service.

[FR Doc. 2023-28261 Filed 12-21-23; 8:45 am]

BILLING CODE 3510-22-P